DEPARTMENT OF TRANSPORTATION

Coast Guard

[CGD05-01-005]

Notice of Public Meeting; letter of recommendation, LNG Facility, Cove Point, MD

AGENCY: Coast Guard, DOT.

ACTION: Notice of public meeting; request for comments.

SUMMARY: The U.S. Coast Guard Captain of the Port, Baltimore (COTP) is preparing a letter of recommendation as to the suitability of the Chesapeake Bay waterway for liquefied hazardous gas (LHG) or liquefied natural gas (LNG) marine traffic in response to a letter of intent to operate the LNG facility at Cove Point, Maryland. In preparation for issuance of the letter of recommendation, the COTP will sponsor a public meeting to receive comments regarding the suitability of the Chesapeake Bay waterway for LHG or LNG vessel traffic.

DATES: The meeting will be held Thursday, August 23, 2001, 3:30 p.m. to 7 p.m. Those who plan to speak at the meeting should provide their name by August 21, 2001. The comment period associated with the public meeting will remain open for seven days following the meeting. Written comments and related material must reach the Coast Guard on or before August 30, 2001.

ADDRESSES: The meeting location is: The Holiday Inn, 155 Holiday Drive, Solomon's Island, Maryland. You may submit written comments to the Coast Guard at the meeting or you may mail comments and related material to Commander, U.S. Coast Guard Activities Baltimore, 2401 Hawkins Point Road, Baltimore, Maryland 21226-1791. U.S. Coast Guard Activities Baltimore maintains a file for this notice. Comments and material received from the public during the comment period will become part of this file and will be available for inspection or copying at the U.S. Coast Guard Activities Baltimore office, room 205, between the hours of 7 a.m. to 3:30 p.m., Monday through Friday, excluding Federal holidays.

FOR FURTHER INFORMATION CONTACT: Lieutenant Commander Gordon Loebl at U.S. Coast Guard Activities Baltimore (410) 576-2526.

SUPPLEMENTARY INFORMATION:

Background Information

In accordance with the requirements in 33 CFR 127.009, the U.S. Coast Guard Captain of the Port, Baltimore (COTP) is preparing a letter of recommendation as to the suitability of the Chesapeake Bay waterway for liquefied hazardous gas (LHG) or liquefied natural gas (LNG) marine traffic. On April 13, 2001, the Coast Guard published a Notice and request for comments entitled Notice and Request for Comments; letter of recommendation, LHG or LNG Facility Cove Point, MD in the Federal Register (66 FR 19283). In the Notice and request for comments, the Coast Guard indicated that we did not then plan to hold a public meeting; however, the Coast Guard would consider requests for public meetings. The Coast Guard received several requests for public meetings during the comment period. Therefore, the Captain of the Port has decided that a public meeting would benefit the recommendation process and will hold a public meeting at the time and place described above in DATES and ADDRESSES.

Public Meeting

Attendance is open to the public. Discussion will be facilitated through the establishment of several staffed stations on various facets of the proposed operation, including the transit of vessels, the shoreside transfer of cargo, and other navigational and environmental issues. With advance notice, members of the public may provide oral statements regarding the suitability of the Chesapeake Bay waterway for LHG or LNG vessel traffic. Oral statements will be limited to five minutes. Persons wishing to make oral statements should notify Lieutenant Commander Gordon Loebl at the number in FOR FURTHER INFORMATION CONTACT no later than two days before the meeting. Written comments may be submitted at the meeting or to the Docket up to August 30, 2001.

Information on Services for Individuals With Disabilities

For information on facilities or services for individuals with disabilities, or to request assistance at the meeting, contact Lieutenant Commander Gordon Loebl listed under FOR FURTHER INFORMATION CONTACT as soon as possible.

Dated: July 20, 2001.
T.W. Allen,
Vice Admiral, U.S. Coast Guard, Commander, Fifth Coast Guard District.

[FR Doc. 01-19068 Filed 7-30-01; 8:45 am]

BILLING CODE 4910-15-U